ENVIRONMENTAL PROTECTION AGENCY

40 CFR Parts 141 and 142

[WH-FRL-7076-2]

RIN 2040-AB75

National Primary Drinking Water Regulations; Arsenic and Clarifications to Compliance and New Source Contaminants Monitoring

AGENCY: Environmental Protection Agency (EPA).

ACTION: Notice of data availability.

SUMMARY: Today's action announces the availability of three reports and recommendations on the science, cost of compliance, and benefits analyses in support of a rule on arsenic in drinking water. These reports were prepared by panels convened by the National Academy of Sciences, the National Drinking Water Advisory Council, and the EPA Science Advisory Board. The establishment and operation of each of these independent, expert panels was described in a July 19, 2001, Federal Register proposed rule. The July 19 proposal also requested comment on whether data and analyses support setting the enforceable arsenic drinking water standard, or Maximum Contaminant Level (MCL), at 3 micrograms per liter (ug/L) (the feasible level), 5 ug/L (the level proposed in June 2000), 10 ug/L (the level published in the January 2001 rule), 20 ug/L, or some other level. The availability of these three reports allows commenters to consider this information in preparing their comments on the July 19, 2001, proposal, and to comment on the data, analyses, and conclusions that EPA should consider.

DATES: Comments must be in writing and either postmarked or received by EPA's Water Docket by October 31, 2001.

ADDRESSES: EPA accepts comments by three delivery methods:

(1) Mailed to the W-99-16-VI Arsenic Comments Clerk, Water Docket (MC-4101); U.S. EPA, 1200 Pennsylvania Avenue, NW., Washington, DC 20460.

(2) Hand delivered (e.g., courier or overnight delivery service) to EPA's Water Docket, located at 401 M Street, SW; East Tower Basement Room 57, in Washington, DC; between 9 a.m. and 3:30 p.m. Eastern Daylight Time, Monday through Friday, except holidays.

(3) Electronically sent to ow-arsenic-docket@epa.gov. See SUPPLEMENTARY INFORMATION for file formats and other information about electronic filing and docket review.

FOR FURTHER INFORMATION CONTACT: The Safe Drinking Water Hotline, phone: (800) 426-4791 or (703) 412-3330, e-mail: hotline-sdwa@epa.gov for general information, meeting information, and copies of arsenic regulations and support documents. For other inquiries, contact Richard Reding, (202) 260-4441, e-mail: reding.richard@epa.gov.

SUPPLEMENTARY INFORMATION:

Additional Information for Commenters

No facsimiles (faxes), compressed or zipped files will be accepted, and comments must be submitted in writing. Please submit an original and three copies of your comments and enclosures (including references) and identify your submission by the docket number W-99-16-VI. To ensure that EPA can read, understand, and therefore properly respond to comments, the Agency would prefer that comments cite, where possible, the question(s) or sections and page numbers in the document or supporting documents to which each comment refers. Commenters should use a separate paragraph for each issue discussed. Commenters who want EPA to acknowledge receipt of their comments should include a self-addressed, stamped envelope.

EPA uses WordPerfect as its standard software, so electronic attachments (including 3.5 inch floppy disks) must be identified as docket submissions for W-99-16-VI and submitted in WordPerfect 8 (or older version) or ASCII file format (unless four hard copies are also submitted). Comments attached in other electronic formats (e.g., Word, pdf, Excel, and compressed or zipped files) must also be submitted as hard copies. If you submit your comment both electronically and as a hard copy, please note this on both submissions so the Docket can link your submissions as one comment rather than two separate comments. Electronic comments on this document may be filed online at many Federal Depository Libraries.

There is no need to submit a comment to repeat views stated in previous comments, or if you do not have additional data relevant to these three reports. The Agency does not send out individual replies to respond to those who submit comments.

Availability of Docket

For an appointment to review the docket for this rulemaking, call (202) 260-3027 between 9 a.m. and 3:30 p.m. Eastern Daylight Time, Monday through Friday and refer to Docket W-99-16-VI. Every user is entitled to 100 free pages, and after that the Docket charges 15 cents a page. Users are invoiced after they copy $25, which is 267 photocopied pages. The Safe Drinking Water Hotline can provide some hard copies of some of the supporting documentation and some electronically (phone: (800) 426-4791 or (703) 412-3330, e-mail: hotline-sdwa@epa.gov). EPA's arsenic-in-drinking-water web page contains links to the arsenic Federal Register documents and other supporting material at www.epa.gov/safewater/arsenic.html.

I. Background

In the Monday, January 22, 2001, Federal Register (US EPA 2001a), EPA issued regulations revising the arsenic drinking water standard and clarifying compliance and new-source contaminants monitoring provisions (66 FR 6976). The Agency established a health-based, non-enforceable Maximum Contaminant Level Goal (MCLG) for arsenic of zero milligrams per liter (mg/L) in § 141.15(b) and an enforceable Maximum Contaminant Level (MCL) for arsenic of 0.01 mg/L (i.e., 10 micrograms per liter (μg/L)) for both community water systems (CWSs) and non-transient non-community water systems (NTNCWSs) in § 141.62(b)(16). (Although EPA lists drinking water standards in Title 40 of the Code of Federal Regulations (40 CFR) in units of mg/L, the Agency will refer to arsenic concentrations in μg/L in this notice.)

The Agency issued a final rule (US EPA 2001b) on May 22, 2001 (66 FR 28342), to delay the effective date of the January 2001 arsenic rule until February 22, 2002. The purpose of the delayed effective date was to allow the Agency to conduct additional reviews of the arsenic rule, including the three reviews that are the subject of today's notice, and to provide opportunities for additional public comment prior to a final decision about the MCL.

II. Where May I Obtain Copies of the Three Expert Panel Reports?

A. The National Academy of Sciences' (NAS) National Research Council's (NRC) Report

NAS has published the NRC the health science review report, “Arsenic in Drinking Water: 2001 Update” (NRC 2001) which is available for review or purchase on the National Academy Press web site: www.nap.edu/catalog/10194.html. The 2001 NRC report reviewed and analyzed relevant toxicological and health-effects studies published since the 1999 NRC report on arsenic as well as the analysis performed by EPA in support of the January 2001 rule.

B. National Drinking Water Advisory Council (NDWAC) Report

The NDWAC has submitted the cost review report, dated August 14, 2001, “Report of the Arsenic Cost Working Group to the National Drinking Water Advisory Council” (US EPA 2001e), at www.epa.gov/safewater/ars/ndwac-arsenic-report.pdf, with a cover letter to Administrator Christine Todd Whitman (US EPA 2001d, www.epa.gov/safewater/ars/ndwac-aug2001letter.html). The NDWAC reviewed the cost of compliance estimates by EPA and other organizations for various public water systems sizes, as well as the national aggregate cost estimates associated with the January 2001 arsenic rule. The cover letter identifies the text of the Working Group Report revised by the full Council and includes an additional recommendation.

C. The Science Advisory Board (SAB) Report

The SAB and its Arsenic Rule Benefits Review Panel has submitted to Administrator Whitman the benefits review report, “Arsenic Rule Benefits Analysis: An SAB Review” (EPA 2001f). This report is available at www.epa.gov/sab/ec01008.pdf. The SAB reviewed the Agency's analysis of quantified and unquantified benefits associated with the January 2001 arsenic rule.

The EPA arsenic webpage, www.epa.gov/safewater/arsenic.html, provides a link to each of these web addresses. Copies of the three reports may be viewed in the docket for this notice at the address and during the times noted in the Supplementary Information section of today's document.

III. How Will EPA Make Use of the Recommendations of the Three Expert Panels?

In the July 19 preamble (US EPA 2001d, 66 FR 37617 at 37628), EPA discussed making the findings of the expert review panels publicly available prior to the fall notice. Today's action allows the public to review the recommendations of each expert panel at the same time that the Agency is assessing the reports. Because these are final reports from independent expert panels, today's notice does not request editorial or technical changes to the reports. If you have technical comments on the analyses and conclusions of these reports that you believe EPA should consider, please submit data and your analyses to the Agency during the comment period for this document.

IV. References

NRC. 2001. Arsenic in Drinking Water: 2001 Update. National Academy Press, 2101 Constitution Avenue, NW, Lockbox 285, Washington, DC 20055, and at www.nap.edu/books/0309076293/html.

US EPA. 2001a. National Primary Drinking Water Regulations; Arsenic and Clarifications to Compliance and New Source Contaminants Monitoring; Final Rule. Federal Register. Vol. 66, No. 14, p. 6976. EPA 815—Z-01-001. January 22, 2001. Available at www.epa.gov/safewater/arsenic.html.

US EPA. 2001b. National Primary Drinking Water Regulations; Arsenic and Clarifications to Compliance and New Source Contaminants Monitoring; Final rule; delay of effective date. Federal Register. Vol. 66, No. 99, p. 28342. May 22, 2001. Available at www.epa.gov/safewater/arsenic.html.

US EPA. 2001c. National Primary Drinking Water Regulations; Arsenic and Clarifications to Compliance and New Source Contaminants Monitoring. Federal Register. Vol. 66, No. 139, p. 37617. July 19, 2001. Available at www.epa.gov/safewater/arsenic.html.

US EPA. 2001d. Letter from Janet Pawlukiewicz to the Administrator. Transmits the National Drinking Water Advisory Council Arsenic Report. August 23, 2001. Available at www.epa.gov/safewater/arsenic.html.

US EPA. 2001e. Final Report of the Arsenic Cost Working Group of the National Drinking Water Advisory Council. August 14, 2001. Water Resource Center (RC-4100), US EPA, 1200 Pennsylvania Avenue NW., Washington DC 20460, and at www.epa.gov/safewater/arsenic.html.

US EPA. 2001f. Arsenic Rule Benefits Analysis: An SAB Review. EPA-SAB-EC-01-008. August 30, 2001. US EPA Science Advisory Board (1400A), 1200 Pennsylvania Avenue, NW., Washington, DC 20460-0001, and at www.epa.gov/safewater/arsenic.html.

Authority: 42 U.S.C. 300f, 300g-1, 300g-2, 300g-3, 300g-4, 300g-6, 300j-4, 300j-9, and 300j-11.

Dated: October 2, 2001.
Diane C. Regas,
Acting Assistant Administrator for Water.

[FR Doc. 01-25047 Filed 10-4-01; 8:45 am]

BILLING CODE 6560-50-P